FEDERAL COMMUNICATIONS COMMISSION

[WT Docket No. 14-161; DA 14-1846]

Enhancements to the Commission's Universal Licensing System and Antenna Structure Registration System for Providing Access to Official Electronic Authorizations

AGENCY: Federal Communications Commission.

ACTION: Notice.

SUMMARY: In this document, the Wireless Telecommunications Bureau (Bureau) announces the implementation of further enhancements to the Commission's Universal Licensing System and Antenna Structure Registration System for providing access to official electronic authorizations through those systems or by email, while providing options for receiving authorizations on paper through the U.S. Postal Service.

DATES: Effective February 17, 2015.

FOR FURTHER INFORMATION CONTACT: Mary Bucher at (202) 418-2656 or via email at Mary.Bucher@fcc.gov or the Licensing Support Center at (877) 480-3201, Option 2; TTY (888) 225-5322, Option 2, or via its Web page at https://esupport.fcc.gov/request.htm.

SUPPLEMENTARY INFORMATION: This is a summary of the Commission's Public Notice (Notice), DA 14-1846, released on December 18, 2014. The complete text of this document is available for viewing via the Commission's ECFS Web site by entering the docket number, WT Docket No. 14-161. The complete text of this document is also available for public inspection and copying during business hours at the FCC Reference Information Center on the Court Yard Level (Room CY-A257), 445 12th Street SW., Washington, DC (telephone: 202-418-0270; TTY 202-418-2555). In addition, copies of this document may be purchased through the FCC's duplication contractor, Best Copy and Printing, Inc. (BCPI), Portals II, 445 12th Street SW., Room CY-B402, Washington, DC 20554; Telephone 202-488-5300; Fax 202-488-5563; TTY 202-488-5562. BCPI may be reached by email at fcc@bcpiweb.com or via its Web site at http://www.BCPIWEB.com. When ordering documents from BCPI, please provide the appropriate FCC document number, for example, DA 14-1846. Alternate formats of this Public Notice (computer diskette, large print, audio recording, and Braille) are available to persons with disabilities by contacting the Consumer & Governmental Affairs Bureau at (202) 418-0530 (voice), (202) 418-0432 (TTY), or by sending an email to fcc504@fcc.gov.

In the Notice, the Bureau announces the implementation of further enhancements to the Commission's Universal Licensing System (ULS) and Antenna Structure Registration (ASR) System and adopts final procedures for providing access to official electronic authorizations through these systems. Under these procedures, all commercial, private and public safety wireless service licensees and ASR registrants will access their current official authorizations in “Active” status only through License Manager in ULS or ASR Dashboard in the ASR System or by email, unless a licensee or registrant notifies the Commission that it wishes to receive its official authorizations on paper through the U.S. Postal Service. For purposes of the Notice, the term “authorization” includes all current commercial, private, and public safety wireless service licenses, commercial radio operator permits, vessel exemptions, and spectrum leases in “Active” status authorized under parts 1, 13, 20, 22, 24, 26, 27, 74, 80, 87, 90, 95, 97 and 101 of the Commission's rules. The term also includes all current FCC Forms 854R, Antenna Structure Registrations, in “Active” status, including “Granted” or “Constructed,” authorized under part 17 of the Commission's rules. The term does not include current authorizations in any status other than “Active,” including, for example, current authorizations in “Expired,” “Cancelled,” or “Terminated” status in ULS, or “Cancelled,” “Dismantled,” or “Terminated” status in the ASR System. In addition, the term does not include spectrum subleases or private commons arrangements, which the Bureau will continue to process on a manual basis, nor does the term include authorizations archived in ULS. Antenna Structure Registrations are not archived in the ASR System. Finally, while other Commission Bureaus manage other licensing systems, the enhancements and final procedures in the Notice apply only to ULS and the ASR System. The action taken in the Notice marks another step in the Commission's process reform efforts, and allows the Bureau to modernize the Commission's wireless service licensing and antenna structure registration processes. As discussed in detail in the Notice, the Bureau takes the following actions:

• All licensees and registrants can access their official authorizations in Active status by securely logging into License Manager in ULS or ASR Dashboard in the ASR System. Once accessed, the licensee or registrant can download, save and print official authorizations, to the extent needed.

• A licensee or registrant can also obtain an electronic version of its authorization through email once its application is granted if the licensee or registrant voluntarily includes a valid email address in the application that it files through ULS or the ASR System, or that it provides to a private organization through which the applicant files applications, e.g., a Frequency Coordinator, Volunteer Examiner Coordinator (VEC), or a Commercial Operator License Examination Manager (COLEM).

• Each official authorization will include a watermark “Official Copy” imprinted across the face of each page of the authorization to authenticate the official status of the license or registration.

• If a licensee or registrant chooses to notify the Bureau that it wishes to receive its official authorization(s) on paper through the mail, it may do so electronically, by telephone, or in writing. The Commission also retains the process by which licensees and registrants may apply through ULS or the ASR System to have duplicate paper copies of official authorizations mailed through the U.S. Postal Service.

• Finally, the Commission continues to provide unofficial reference copies of authorizations online through ULS and the ASR System. The unofficial copies include the watermark “Reference Copy” imprinted on the face of each page of the authorization.

An interim test period adopted in the Initial Public Notice (DA 14-1478) released in this proceeding will continue until these final procedures become effective. The Initial Public Notice was published in the Federal Register on October 29, 2014. During the interim test period, the Commission will continue to print authorizations on paper and mail them out through the U.S. Postal Service to licensees or registrants unless a licensee or registrant notifies the Commission that it wishes to stop receiving authorizations on paper through the mail. In the Initial Public Notice, the Bureau sought comment to better inform its decision-making process even though section 4(b) of the Administrative Procedure Act (APA) exempts agencies like the Federal Communications Commission from the general APA requirements to provide the public with advance notice and opportunity for comment when promulgating “rules of agency organization, procedure, or practice”—so-called “procedural rules.” Section 3(a) of the APA requires agencies to publish their “rules of procedure” in the Federal Register and section 4(d) generally requires an agency to publish its substantive rules 30 days prior to the date on which the rules become effective. Because section 4(d) expressly applies to substantive rules and not to procedural rules, the requirement to publish the final procedures adopted in the Notice 30 days before they become effective is inapplicable in this proceeding. The Bureau has nevertheless decided to provide for a 30-day period after publication in the Federal Register before the final procedures become effective to provide licensees and registrants with an ample measure of time to facilitate their use of these new procedures. After the effective date of these final procedures is published in the Federal Register, the Bureau anticipates releasing, as additional outreach, a further public notice reminding licensees and registrants of that effective date.

Background

Stations in Wireless Radio Services may be operated only with a valid authorization granted by the Commission, and owners of antenna structures that require notice of proposed construction to the Federal Aviation Administration (FAA) must register the structure with the Commission. Once an application is granted, ULS or the ASR System generates an authorization from information provided in the granted application. Historically, the Bureau has then printed each authorization on paper, placed it in a postage-paid envelope, and mailed it out through the U.S. Postal Service to the licensee or registrant.

On February 14, 2014, the FCC Staff Working Group released the Commission's “Report on FCC Process Reform,” recommending that, “to the extent permitted by Federal records retention requirements,” licensing Bureaus “should eliminate paper copies of licenses.” To implement this recommendation, in October 2014, the Commission enhanced ULS and the ASR System so that all licensees and registrants can now access the official electronic versions of their current authorizations in Active status by securely logging into License Manager or a registrant's ASR Dashboard. Once logged in, the licensee or registrant can download, save, and print copies of its authorizations, to the extent needed.

In conjunction with the Commission's enhancements to ULS and the ASR System, the Bureau released the Initial Public Notice, in which the Bureau deemed the electronic version of an authorization stored in ULS or the ASR System as the official Commission document and sought comment on certain final procedures for licensees and registrants to access official authorizations electronically through License Manager, through ASR Dashboard, and by email. The Bureau also noted in the Initial Public Notice that lifetime commercial radio operator licenses issued prior to implementation of ULS that were not converted into the ULS database remain valid even though the licenses themselves are not stored in ULS. The Initial Public Notice also sought comment on options for receiving official authorizations on paper through the U.S. Postal Service. The comment period ended on November 10, 2014. The Bureau received 11 comments in response to the Initial Public Notice. Eight comments were filed on behalf of amateur service licensees: Michael D. Adams (Adams); the American Radio Relay League, Incorporated (ARRL); Richard S. Jandrt (Jandrt); David W. Johnson (Johnson); Nickolaus E. Leggett (Leggett); Victor Magana (Magana); W. Lee McVey (McVey); and Edward F. Pataky (Pataky). The remaining comments were filed by AT&T Services, Inc. (AT&T); the Enterprise Wireless Alliance (EWA); and the National Association of Manufacturers and MRFAC, Inc. (NAM/MRFAC). Finally, the Initial Public Notice provided for an interim test period, which will continue until final procedures become effective.

Discussion

A. Official Electronic Authorizations

Background. As explained in the Initial Public Notice, the Bureau's goal in this proceeding is to stop printing and mailing out official authorizations to the greatest extent possible. While the Bureau is currently continuing to print and mail out authorizations on paper unless otherwise notified, in October of this year, the Commission enhanced ULS and the ASR System so that all licensees and registrants can also access the official electronic versions of their current authorizations in Active status through License Manager or ASR Dashboard. The final procedures set forth in the Initial Public Notice would modify ULS and the ASR System so that the default setting would be not to print and mail out these authorizations. The Bureau sought comment on whether this process for providing current official electronic authorizations in Active status through License Manager or ASR Dashboard sufficiently meets the needs of licensees and registrants. The Bureau also proposed a method by which a licensee or registrant could receive its official authorizations electronically through email.

Discussion. The Bureau adopts the procedures as proposed. Once final procedures become effective, when an application is granted, ULS or the ASR System will generate an official electronic authorization. The Bureau, however, will no longer print out the authorization on paper or mail it to the licensee or registrant unless a licensee or registrant notifies the Bureau that it wishes to receive its official authorization(s) on paper. The Bureau finds this electronic process will improve efficiency by simplifying access to official authorizations in ULS and the ASR System, shortening the time period between grant of an application and access to the official authorization, and reducing regulatory costs. As described below, links to download authorizations in ULS can be found on the License Manager homepage and a registrant may download authorizations through its ASR Dashboard. Licensees and registrants may also download more than one authorization at a time. Once downloaded, licensees and registrants can save and print official authorizations, to the extent needed.

The Bureau further adopts the proposed method by which licensees and registrants can obtain electronic versions of their authorizations by email. The Bureau finds that this procedure serves the public interest by providing licensees or registrants an additional method by which they may obtain electronic versions of official authorizations, in this case without accessing ULS or the ASR System. If an applicant includes a valid email address under “Applicant Information” (licensee) in a ULS application or under “Antenna Structure Ownership Information” (registrant) in an ASR System application, the Bureau will send the official electronic authorization via email to the licensee or registrant upon grant of the application. While in most cases a single authorization will be attached to a single email, the Bureau will attach all authorizations granted on the same day within the same system to a single email, to the extent capacity allows.

The Bureau further notes that if an application is pending in ULS or the ASR System once final procedures become effective, and if the applicant or registrant did not include a valid email address in the pending application, the licensee or registrant may access the electronic version of the official authorization through License Manager or ASR Dashboard once the application is granted. An applicant or registrant may also amend a pending application to include a valid email address. To add an email address to or update email information included in an application pending in ULS or the ASR System, an applicant or registrant must file an application for “Administrative Update (AU).” In that case, once the application is granted, the Bureau will email an electronic version of the official authorization to the licensee or registrant as already described.

The Bureau reminds licensees and registrants that this is a voluntary process and if a licensee or registrant does not wish to provide an email address in an application, it can instead continue to access official electronic authorizations through License Manager or ASR Dashboard. While the Bureau will email the licensee or registrant its official authorizations, the new procedure does not include sending an official electronic authorization by email to a “contact” listed on the application. Finally, the Bureau will send official electronic authorizations to valid licensee or registrant email addresses regardless of whether a licensee or registrant obtains its authorization(s) electronically through License Manager or ASR Dashboard, or elects to receive official authorizations on paper through the U.S. Postal Service. Several commenters support these procedures. EWA, a Commission-certified Frequency Coordinator that coordinates and files with the Commission approximately 9,000 to 10,000 part 90 applications each year, “anticipates that a significant number of parties will choose to rely on electronic documents, if not immediately, then over time as the process becomes more familiar.” The National Association of Manufacturers (NAM), which represents 14,000 small and large manufacturers in every industrial sector, in all 50 states, and MRFAC, Inc., a Commission-certified Frequency Coordinator for private land mobile bands and the frequency coordinating arm for NAM, support the Bureau's proposals as “a more expeditious and economical means of providing official authorizations to Commission licensees.” AT&T also “welcomes and supports” the Bureau's proposals noting that the “changes will lead to a more efficient system to transmit authorizations, save Commission resources and reduce workloads for Commission licensees and registrants.” AT&T further notes that “authorizations sent to an email address that a licensee or registrant provides for receipt are likely to arrive at their ultimate destination and be processed more quickly than if sent by United States mail.” AT&T concludes that providing authorizations electronically “reduces the paperwork collection burden on licensees and registrants” and that it has “found License Manager and ASR Dashboard to be sufficient to meet its needs when official authorizations are needed.”

Those filing comments on behalf of amateur service licensees, however, raise concerns about electronic access as the default method for obtaining authorizations. In particular, ARRL, the national association for amateur radio, strongly recommends that the Commission continue sending paper authorizations to new amateur licensees along with instructions to the licensee on how to access electronic versions or request paper copies of official modified or renewed licenses issued after the licensee receives his or her initial license. ARRL's concern is that licensees do not interact with ULS during the current licensing process for the amateur service and that the new procedures could “discourage newcomers” to the amateur service or “make their experience difficult from the outset.” In addition, ARRL and other amateur radio commenters are concerned about ensuring the authenticity of licenses printed by a licensee from License Manager.

With respect to the interaction of amateur licensees with ULS, the Commission currently authorizes 14 Volunteer Examiner Coordinators (VECs) to coordinate the efforts of Volunteer Examiner (VE) teams in preparing and administering amateur service operation license examinations. Before taking the examination, a candidate must provide to the VE team certain information needed for submitting a license application through ULS. In most cases, the candidate fills out either online or on paper an NCVEC Quick-Form 605 Application for Amateur Operator/Primary Station License (NCVEC Form 605) produced by the VECs for use by VE teams. Candidates who have not already obtained an FCC Registration Number (FRN) through the Commission's Registration System (CORES) before taking the examination also provide the VE team with a social security number. Once a candidate passes the examination, the VE team certifies that the candidate is qualified for a particular operator license class, and forwards the candidate's information to the coordinating VEC. The VEC submits all application information received from the VE team in electronic batch files. CORES then generates FRNs as needed and ULS produces and processes FCC Form 605 applications from those files.

Once an application is granted, a new licensee who did not provide an FRN at the examination receives three separate mailings through the U.S. Postal Service: (1) A CORES-generated document providing his or her FRN; (2) another CORES-generated document that provides a temporary password for the FRN, along with instructions on how to obtain a permanent password; and (3) an official ULS-generated license printed on paper. While the new licensee may then access CORES to obtain a permanent password, ARRL is concerned that, under the new procedures, licensees will also be required to access ULS to obtain their license electronically when they currently do not necessarily interact with ULS.

The Bureau is cognizant that the new procedures may create confusion for amateur service licensees; however, it finds that ARRL's concerns are overstated. Most importantly, the new procedures will not require any amateur service applicant to interact directly with ULS. To the contrary, if an applicant includes an email address when providing contact and other information to VE teams, that address will be processed as part of the ULS application and, once granted, ULS will email the electronic version of the new official authorization directly to the licensee. While amateur licensees may access ULS to request paper copies of their authorizations or to download authorizations from License Manager if they choose, they are not required to do so and may avail themselves of the alternate methods described below.

The Bureau agrees with ARRL that providing additional outreach and education regarding this transition would be highly beneficial. On the day the final procedures become effective, the Bureau will add a link on the ULS homepage and the homepages of certain wireless services to a new Web page entitled “How to Obtain Your Official Authorization,” which explains how licensees can access both the electronic and paper versions of their authorizations. The Bureau will also add a link on the ASR System homepage to a new Web page, entitled “How to Obtain Your Official Registration,” providing the same information for obtaining Antenna Structure Registrations. The information included on these new explanatory Web pages is set forth below.

In addition to adding explanatory Web pages in ULS and the ASR System, Bureau staff will work with each VEC, COLEM and Frequency Coordinator to educate new and existing licensees about the new procedures. The Bureau notes that EWA, in its comments, states that “it will work with its members to familiarize them with the various options . . . [and] assist those who need help in navigating License Manager in ULS or ASR Dashboard in the ASR System.” EWA explains that it “provides this assistance today and will continue to do so as entities familiarize themselves with the authorization delivery options” adopted in the Notice. The Bureau believes that the Notice, the explanatory Web pages it is adding to the ULS and ASR System homepages, and additional outreach from these private organizations, taken together, will provide the vast majority of licensees with the information they need about the new procedures.

ARRL, as well as other commenters in the amateur service, also raises concerns about ensuring the authenticity of authorizations that licensees download and print from License Manager. Commenters note certain circumstances in which the Commission, as well as foreign, state, and local governments, requires paper copies of amateur service licenses. According to ARRL, the most urgent of these circumstances occurs when an amateur operator seeking an upgrade in license class must provide both an original and a copy of his or her current license to the VE team. Commenters also note that requirements for obtaining European Conference of Postal and Telecommunications Administrations (CEPT) operating authority for reciprocal operation in CEPT countries and for obtaining an International Amateur Radio Permit necessitate a convenient method for licensees to obtain “demonstrably authentic license documents.” Finally, commenters list certain situations where a state or local government may require a copy of an official license, including, for example, when an amateur radio operator who wishes to install an antenna at his or her residence files an application for a land-use authorization.

Commenters contend that the type of paper the Bureau has used for printing authorizations substantiates the authenticity of a Commission-issued paper license. For example, ARRL states that “[i]f there is not a license printed on distinctive license stock by the Commission, authentication issues arise and the possibility of electronic alteration of a license document is created.” To remedy the situation, ARRL suggests that the Bureau issue a separate public notice “explaining to third parties that a licensee-generated license document printed from the official license file in the ULS has the same validity and authenticity as a Commission-issued paper document.” ARRL contends that an amateur service licensee could use the public notice “to persuade non-Federal authorities of the validity of a license document.” The Bureau first notes that it stopped using “distinctive stock” and started using standard white recycled paper for printing authorizations earlier this year. The paper the Bureau used previously was six times more expensive than the standard white recycled paper it now uses. Thus, any plausible distinction between a Commission-printed authorization and a licensee- or registrant-printed authorization based on the type of paper used no longer exists. To address commenters' concerns, however, the watermark “Official Copy” will be imprinted on each page of an official authorization that a licensee or registrant prints out from License Manager or ASR Dashboard and licenses and registrations printed and mailed by the Bureau will also include the watermark “Official Copy” on each page of the authorization. While this enhancement should address ARRL's concerns about “maintaining the integrity of the amateur radio examination process,” which “might be more difficult where something other than a Commission-printed license document on distinctive paper stock is presented to VEs at an examination session,” the Bureau also notes that VE teams regularly use other methods to authenticate the current license status of the examination candidate.

Finally, in its comments, AT&T contends that those licensees and registrants that elect to stop receiving authorizations on paper during the interim test period and that have provided an email address on a pending application that is granted during that time period should receive an email with the authorization attached, or at a minimum, an email that includes a link to the authorization in ULS or the ASR System. The Bureau declines to provide electronic authorizations by email during the interim test period. The Bureau first notes that no other person or entity has made a similar request. The Bureau also finds that providing email-delivery during this interim period only to licensees and registrants that have elected to stop receiving authorizations on paper during the interim test period would complicate the process and create additional expense. If the Bureau were to implement immediately the entire email-delivery procedure adopted in the Notice, all applicants that have included an email address on an application currently pending in ULS or the ASR System, including those who continue to receive paper authorizations through the mail, would, without notice, begin receiving electronic authorizations delivered by email. It is important to note that the Bureau is working diligently to make all of the final procedures effective for everyone shortly.

B. Official Paper Authorizations

Background. While under the Bureau's final procedures, the Commission, by default, will no longer print and mail out official authorizations, the Bureau proposed and sought comment in its Initial Public Notice on several options by which a licensee or registrant could notify the Bureau that it wishes to receive its official authorization(s) on paper through the U.S. Postal Service.

Discussion. The Bureau adopts each option as proposed. License Manager and ASR Dashboard both now include settings that allow a licensee or registrant to notify the Bureau whether it wishes to receive official authorization(s) on paper. Once final procedures become effective designating electronic access as the default, if a licensee or registrant wishes to receive official authorizations on paper, the licensee or registrant can change the setting so that once an application is granted, the Bureau will print and mail out on paper the resulting official authorization(s) associated with the licensee's or registrant's FRN. Licensees or registrants that use more than one FRN must change the default setting for each FRN in each applicable system, ULS and ASR, to the extent they wish to receive official paper authorizations specifically associated with a particular FRN. The procedures for changing the setting(s) are detailed below.

In addition, a licensee or registrant may contact the Licensing Support Center via Web page, phone, or mail to request paper authorizations. These methods are also detailed below. The Bureau notes that even if a licensee or registrant elects to receive paper authorizations using any of these options, the licensee or registrant may also continue to access its authorizations electronically through License Manager or ASR Dashboard, or by email where the applicant or registrant provides a valid email address in its application.

Finally, the Bureau notes that the process for obtaining duplicate paper copies of licenses or registrations by filing an application, along with any applicable filing fee, through ULS or the ASR System remains available under the Bureau's final procedures. While under this modernized process the need to request a duplicate paper license or registration is virtually eliminated, the Commission has retained the capability in ULS and the ASR System as an option for obtaining paper copies of official authorizations.

The Bureau finds that these options serve the public interest by providing licensees and registrants a variety of methods, electronic as well as by telephone or in writing, to notify the Bureau that they wish to receive official authorizations on paper through the mail. The Bureau agrees with EWA, which supports the options, explaining that “[e]ntities have different internal processes for handling FCC authorizations that may be better suited to one approach versus another, at least initially, although [EWA] would hope that electronic documents will become the norm.”

C. Unofficial Reference Copies of Authorizations

As explained in the Initial Public Notice, electronically stored application and licensing data for authorizations in wireless radio services and application and registration data on antenna structures is available for public inspection via the ULS and ASR System Web sites. The final procedures that the Bureau adopts in the Notice do not change this access. The Commission will continue providing unofficial reference copies of authorizations online through ULS and the ASR System with the watermark “Reference Copy” imprinted on each page. The reference copy includes the most recent information on the authorization, thus providing the public with current licensing or registration data without compromising the official status of the official authorization.

D. Posting, Record Retention and Other Rules Are Unaffected

Background. The Bureau explained in the Initial Public Notice that some of the Commission's wireless service-specific rules require licensees to retain current authorizations as part of their station records, and, for some services, licensees must post paper copies of their station authorizations at certain locations. In addition, the Bureau explained that Commission rules require antenna structure owners to post the Antenna Structure Registration Number at each facility, and to provide all tenant licensees (and permittees) on the structure access to a copy of the FCC Form 854R, Antenna Structure Registration. The Bureau further stated that enhancing the Commission's licensing and Antenna Structure Registration systems to replace official paper authorizations with official electronic authorizations does not affect any of these rules. The Bureau further notes that the Commission adopted revisions to its part 17 rules, which became effective October 24, 2014, including modified requirements for posting Antenna Structure Registration Numbers and mailing registrations to tenant licensees and permittees. The enhancements and final procedures adopted in the Notice are independent of the proposals adopted in that rulemaking. Finally, the Bureau explained that while the default setting under the final procedures would be set so that the Bureau would no longer print and mail out official paper authorizations, the setting would have no effect on how the Commission processed other applicant, licensee or registrant correspondence and notices generated by ULS or the ASR System.

Discussion. ARRL and other commenters argue that certain rules regarding posting of authorizations and processing of correspondence should change to effectuate the new procedures. ARRL first contends that if the Commission eliminates the default mailing of paper licenses to amateur service licensees, it should consider eliminating rules that require posting of paper licenses at transmitter sites. Similarly, while it supports the requirement that licensees retain copies of their authorizations as part of their station records, EWA recommends that the Commission consider eliminating the rules that require part 90 licensees to maintain physical copies of their authorizations for base and other fixed stations at every station control point. Finally, NAM/MRFAC urge the Commission to consider using electronic delivery for letters that ULS generates when an application is returned as defective. The Bureau does not disagree with commenters' recommendations that amendment or elimination of these rules or processes should be considered one day. EWA, however, is correct that its recommendation falls outside the scope of this proceeding, as do the other commenters' suggestions. The Bureau similarly rejects, as outside the scope of this proceeding, ARRL's argument that Section 97.23, which requires each amateur license grant to include the licensee's mailing address, which must be in an area where the licensee can receive U.S. Postal Service, should be amended to replace mailing addresses with other alternatives, including email addresses, for use in Commission correspondence.

Finally, the Bureau rejects ARRL's contention that Section 97.29 must be amended. Section 97.29 provides that “[e]ach grantee whose amateur station license grant document is lost, mutilated or destroyed may apply to the FCC for a replacement in accordance with § 1.913 of this chapter.” As the Bureau stated earlier, it is retaining the capability for licensees to file applications through ULS as an optional means of requesting duplicate paper copies of official authorizations. Moreover, in the event a copy of an amateur service licensee's official authorization is lost or destroyed, the rule, which is permissive, does not preclude the licensee from obtaining a replacement using other methods that do not require Commission action, including downloading and printing an official authorization from License Manager.

Instructions for Downloading Official Authorizations in ULS

The Commission currently provides both temporary and permanent links on the License Manager homepage to download current authorizations in Active status. The temporary link, “download your official electronic authorizations now,” can be found on a green bar across the top of the License Manager homepage. The permanent link, “Download Electronic Authorizations,” can be found in the navigation bar on the left side of the License Manager homepage.

Instructions for Downloading Official Registrations in ASR

The Commission provides a link, “Download Official Registration,” on a registrant's ASR Dashboard homepage and under the “My Registrations” tab on its ASR Dashboard to download current Antenna Structure Registrations in Active status.

Instructions for Accessing Electronic-Only Official Authorizations in ULS

The Commission provides both temporary and permanent links on the License Manager homepage to access the default setting that allows licensees and registrants to notify the Commission whether they wish to receive authorizations on paper through the U.S. Postal Service. The temporary link, “Change your paper authorization preferences here,” can be found on a green bar across the top of the License Manager homepage. The permanent link, “Set Paper Authorization Preferences,” can be found in the navigation bar on the left side of the License Manager homepage. Once final procedures become effective, the default setting will look like this:

“Receive Paper Authorizations? _ Yes x No”

If licensees wish to obtain official authorizations only electronically through ULS, they do not need to make any changes to the setting in License Manager. If the licensee does not change the setting, the Commission will no longer print and mail out official authorizations on paper through the U.S. Postal Service.

Instructions for Accessing Electronic-Only Official Registrations in ASR

The Commission provides a link on the registrant's ASR Dashboard homepage to access the default setting that allows registrants to notify the Commission whether they wish to receive registrations on paper through the U.S. Postal Service. Once final procedures become effective, the default setting will look like this:

“Receive Paper Registrations? _ Yes x No”

If registrants wish to obtain official registrations only electronically through the ASR System, they do not need to make any changes to the setting in ASR Dashboard. If a registrant does not change the setting, the Commission will no longer print and mail out official authorizations on paper through the U.S. Postal Service.

Instructions for Receiving Official Paper Authorizations From ULS and ASR

If a licensee or registrant wishes to receive official authorizations on paper, the licensee or registrant can change the default setting(s) described above by checking the “Yes” box in ULS or the ASR System. Licensees and registrants using multiple FRNs must choose the setting for each FRN in each system.

OR

The licensee or registrant may contact the Licensing Support Center via phone, web or mail. All requests must include the licensee's or registrant's FRN(s), and whether the request applies to ULS or the ASR System or both.

Phone: (877) 480-3201, Option 2; TTY (888) 225-5322, Option 2.

Web: https://esupport.fcc.gov/request.htm.

Mail: Send a letter to the Wireless Telecommunications Bureau, Technologies, Systems and Innovation Division, 1270 Fairfield Road, Gettysburg, Pennsylvania 17325-7245.

If a licensee or registrant changes the setting(s) described above to “Yes” or uses any of these other options, once an application is granted, the Commission will print and mail out on paper the resulting official authorization(s) associated with the licensee's or registrant's FRN(s). If a licensee or registrant elects to receive paper authorizations, the licensee or registrant can also continue to access its authorizations electronically through License Manager or ASR Dashboard, or by email where the licensee or registrant includes a valid email address in its application.

Federal Communications Commission.
Jean Kiddoo,
Deputy Bureau Chief, Wireless Telecommunications Bureau.

[FR Doc. 2015-00622 Filed 1-15-15; 8:45 am]

BILLING CODE 6712-01-P